DEPARTMENT OF THE INTERIOR

Fish and Wildlife Service

50 CFR Part 21

[Docket No. FWS-R9-MB-2011-0020; 91200-1231-9BPP]

RIN 1018-AX78

Migratory Bird Permits; Changes in the Regulations Governing Raptor Propagation

AGENCY: Fish and Wildlife Service, Interior.

ACTION: Advance notice of proposed rulemaking.

SUMMARY: We solicit recommendations on whether the bald eagle (Haliaeetus leucocephalus) and the golden eagle (Aquila chrysaetos) should be included among other raptors that may be propagated in captivity under Federal raptor propagation permits.

DATES: We will accept comments received or postmarked by the end of the day on October 4, 2011.

ADDRESSES: You may submit comments by either one of the following methods:

• Federal eRulemaking Portal: http://www.regulations.gov. Follow the instructions for submitting comments on Docket No. FWS-R9-MB-2011-0020.

• U.S. mail or hand delivery: Public Comments Processing, Attention: FWS-R9-MB-2011-0020; Division of Policy and Directives Management; U.S. Fish and Wildlife Service; 4401 North Fairfax Drive, MS 2042-PDM; Arlington, VA 22203-1610.

We will not accept e-mail or faxes. We will post all comments on http://www.regulations.gov. This generally means that we will post any personal information that you provide. See the Public Comments section below for more information.

FOR FURTHER INFORMATION CONTACT: Dr. George T. Allen, 703-358-1825.

SUPPLEMENTARY INFORMATION:

Public Comments

Propagation of bald eagles and golden eagles has not been allowed under the raptor propagation permit regulations at 50 CFR 21.30. We are now considering whether to permit this activity. We request comments and suggestions on this topic from the public, other concerned governmental agencies, the scientific community, industry, and other interested parties.

You may submit your comments and supporting materials only by one of the methods listed in the ADDRESSES section. We will not consider comments sent by e-mail or fax, or written comments sent to an address other than the one listed in the ADDRESSES section.

If you submit a comment via http://www.regulations.gov, your entire comment—including any personal identifying information—will be posted on the Web site. If you submit a hardcopy comment that includes personal identifying information, you may request that we withhold this information from public review, but we cannot guarantee that we will be able to do so. We will post all hardcopy comments on http://www.regulations.gov.

Comments and materials we receive, as well as supporting documentation we used in preparing this proposed rule, will be available for public inspection at http://www.regulations.gov, or by appointment, during normal business hours, at the U.S. Fish and Wildlife Service (see FOR FURTHER INFORMATION CONTACT).

Background

The U.S. Fish and Wildlife Service is the Federal agency with the primary responsibility for managing migratory birds. Our authority is based on the Migratory Bird Treaty Act (MBTA, 16 U.S.C. 703 et seq.) and the Bald and Golden Eagle Protection Act (BGEPA, 16 U.S.C. 668). Regulations governing the issuance of permits for bald eagles and golden eagles are in 50 CFR part 22 and certain sections of 50 CFR part 21.

The MBTA allows the Secretary of the Interior to issue permits for take and possession of migratory birds for many purposes. The BGEPA allows bald eagles and golden eagles to be taken and possessed under more restricted circumstances. For example, only golden eagles that are depredating on livestock or wildlife may be taken from the wild by falconers, and bald eagles, no matter what their origin, cannot be held for falconry. Eagles may not be sold, purchased, or bartered under any circumstances, regardless of whether they are wild or captive-bred in origin.

Bald and golden eagles are the only raptor species protected by the MBTA that are not allowed under the current raptor propagation permit regulations at 50 CFR 21.30 because those regulations do not apply to these two species that are also protected under the Bald and Golden Eagle Protection Act (see 50 CFR 21.2(b)). We are evaluating whether to amend the regulations to allow some holders of valid raptor propagation permits to propagate eagles as they can many other raptor species. Most eagles in captivity are held under permits for exhibition/education, eagle falconry, and Native American eagle aviaries. All eagles held for falconry are golden eagles, and most were removed from the wild due to livestock depredation. Most eagles held for exhibition/education and Native American aviaries are nonreleasable bald eagles and golden eagles obtained from permitted rehabilitators. We are assessing whether captive-bred eagles should be available for these or other purposes. We solicit comments and suggestions on all aspects of bald eagle and golden eagle propagation and potential regulations to govern Federal permitting of this activity.

We particularly solicit comments on the topics listed below. Explaining your reasons and rationale for your comments will help as we consider them.

(1) Whether to allow propagation of bald eagles and golden eagles under raptor propagation permits.

(2) Qualifications and experience necessary to propagate eagles.

(3) Limits or restrictions that should apply to propagation of eagles.

(4) Special restrictions that should apply with regard to imprinting.

(5) Whether propagators should be allowed to hybridize bald eagles and golden eagles with other species of eagles.

(6) Restrictions on purposes for which captive-bred eagles may be held.

(7) Qualifications and experience necessary to possess a captive-bred bald eagle or golden eagle.

(8) Special facilities requirements for propagation of golden eagles and bald eagles.

(9) Report information that should be required from a permit holder, if any.

(10) Other conditions that should apply to these permits.

Dated: June 27, 2011.
Rachel Jacobson,
Acting Assistant Secretary for Fish and Wildlife and Parks.

[FR Doc. 2011-16877 Filed 7-5-11; 8:45 am]

BILLING CODE 4310-55-P